FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted July 1, 2018 Through July 31, 2018
07/02/2018
20181318 | G | Contura Energy, Inc.; ANR, Inc.; Contura Energy, Inc.
20181442 | G | Paddy Power Betfair plc; FanDuel Ltd.; Paddy Power Betfair plc.
20181443 | G | Fastball Holdings LLC; Paddy Power Betfair plc; Fastball Holdings LLC.
20181476 | G | Spirit AeroSystems Holdings, Inc.; S.R.I.F. NV; Spirit AeroSystems Holdings, Inc.
20181482 | G | Sanofi; Translate Bio, Inc.; Sanofi.
20181500 | G | Michael Alexander Cannon-Brookes; Zoox, Inc.; Michael Alexander Cannon-Brookes.
20181501 | G | JSW Energy Interests LP; FirstEnergy Corp.; JSW Energy Interests LP.
20181508 | G | Fortive Corporation; Johnson & Johnson; Fortive Corporation.
07/03/2018
20181496 | G | Arthur J. Gallagher & Co.; Vincent DiBenedetto; Arthur J. Gallagher & Co.
20181517 | G | Nidec Corporation; Whirlpool Corporation; Nidec Corporation.
20181533 | G | Ergon, Inc.; Blueknight Energy Partners, L.P.; Ergon, Inc.
07/05/2018
20181485 | G | Ashtead Group plc; Blagrave No. 2 Limited; Ashtead Group plc.
07/09/2018
20181478 | G | Webster Capital III, L.P.; Clark H. & Pamela A. Gustafson; Webster Capital III, L.P.
20181479 | G | Webster Capital III, L.P.; James D. and Janet A. Clary; Webster Capital III, L.P.
07/10/2018
20181506 | G | CJ CheilJedang Corporation; Ann M. Drake; CJ CheilJedang Corporation.
20181529 | G | CMS Energy Corporation; Starwood Energy Infrastructure Fund II Investor, LLC; CMS Energy Corporation.
20181534 | G | Bain Capital Fund XII, L.P.; Hercules Achievement Holdings, Inc.; Bain Capital Fund XII, L.P.
20181535 | G | Bain Capital Fund XII, L.P.; Hercules VB Holdings, Inc.; Bain Capital Fund XII, L.P.
20181537 | G | Ourhome Ltd.; Hanjin Heavy Industries & Construction H; Ourhome Ltd.
20181539 | G | Clayton, Dubilier & Rice Fund X, L.P.; Cardinal Health Inc.; Clayton, Dubilier & Rice Fund X, L.P.
20181540 | G | IIF US Holding 2 LP; American Midstream Partners, LP; IIF US Holding 2 LP.
20181541 | G | Ken Garff Enterprises, LLC; Jefferies Financial Group Inc.; Ken Garff Enterprises, LLC.
20181545 | G | Tiger Global Private Investment Partners VIII, L.P.; InVisionapp Inc.; Tiger Global Private Investment Partners VIII, L.P.
20181547 | G | Tiger Global Private Investment Partners VII, L.P.; InVisionapp Inc.; Tiger Global Private Investment Partners VII, L.P.
20181550 | G | George Feldenkreis; Perry Ellis International, Inc.; George Feldenkreis.
20181553 | G | Madison Dearborn Capital Partners VII-A, L.P.; Audax Private Equity Fund IV, L.P.; Madison Dearborn Capital Partners VII-A, L.P.
20181556 | G | Blackstone Capital Partners VII L.P.; PSAV Holdings LLC; Blackstone Capital Partners VII L.P.
20181577 | G | Telapex, Inc.; Pamlico Capital II, L.P.; Telapex, Inc.
07/11/2018
20181585 | G | Gebr. Knauf KG; USG Corporation; Gebr. Knauf KG.
07/12/2018
20181532 | G | TA XII-A L.P.; Eric M. Peyrot; TA XII-A L.P.
07/13/2018
20181561 | G | CDH Fund V, L.P.; Sirtex Medical Limited; CDH Fund V, L.P.
20181563 | G | ONCAP IV LP; Peak Rock Capital Fund LP; ONCAP IV LP.
20181578 | G | West Street Capital Partners VII, L.P.; Genstar Capital Partners VI, L.P.; West Street Capital Partners VII, L.P.
20181579 | G | Carlyle Power CPP II Nautilus, LLC; Old Dominion Electric Cooperative; Carlyle Power CPP II Nautilus, LLC.
20181581 | G | The Veritas Capital Fund V, L.P.; Cotiviti Holdings, Inc.; The Veritas Capital Fund V, L.P.
20181584 | G | The Veritas Capital Fund VI, L.P.; The Veritas Capital Fund V, L.P.; The Veritas Capital Fund VI, L.P.
20181591 | G | Alpine Investors VI, LP; Gregory Garvey; Alpine Investors VI, LP.
20181593 | G | Warburg Pincus Private Equity X, L.P.; BP Aero Holdings LLC; Warburg Pincus Private Equity X, L.P.
20181597 | G | Hellman & Friedman Capital Partners VIII, L.P.; Charles Laurans; Hellman & Friedman Capital Partners VIII, L.P.
20181603 | G | Roquette Freres S.A.; Sethness Products Company; Roquette Freres S.A.
07/16/2018
20181544 | G | Amber Holdings, L.P.; Vista Equity Partners Fund V, L.P.; Amber Holdings, L.P.
20181602 | G | Lyft, Inc.; Bikeshare Holdings LLC; Lyft, Inc.
20181619 | G | Aptiv PLC; Snow Phipps III, L.P.; Aptiv PLC.
07/17/2018
20181530 | G | David A. Duffield; Adaptive Insights, Inc.; David A. Duffield.
20181567 | G | Canyon Value Realization Fund, L.P.; Berry Global Group, Inc.; Canyon Value Realization Fund, L.P.
20181569 | G | The CVRF Trust; Berry Global Group, Inc.; The CVRF Trust.
20181570 | G | The CBEF Master Trust; Berry Global Group, Inc.; The CBEF Master Trust.
07/18/2018
20181576 | G | Madison Dearborn Capital Partners VII-B, L.P.; Navigant Consulting, Inc.; Madison Dearborn Capital Partners VII-B, L.P.
20181598 | G | Bain Capital Fund XII, L.P.; VEPF IV AIV III, L.P.; Bain Capital Fund XII, L.P.
20181599 | G | Bain Capital Fund XII, L.P.; Vista Equity Partners Fund VI, L.P.; Bain Capital Fund XII, L.P.
20181600 | G | Vista Equity Partners Fund VI, L.P.; Bain Capital Fund XII, L.P.; Vista Equity Partners Fund VI, L.P.
20181601 | G | Vista Equity Partners Fund VI-A, L.P.; Bain Capital Fund XII, L.P.; Vista Equity Partners Fund VI-A, L.P.
07/19/2018
20181560 | G | KKR Americas Fund XII, L.P.; Envision Healthcare Corporation; KKR Americas Fund XII, L.P.
20181588 | G | Atlantia S.p.A.; Actividades de Construccion y Servicios, S.A.; Atlantia S.p.A.
07/20/2018
20181612 | G | Platinum Equity Capital Spray Partners, L.P.; Ball Corporation; Platinum Equity Capital Spray Partners, L.P.
20181613 | G | KLR Seawolf Fund, LP; Zane Kiehne; KLR Seawolf Fund, LP.
20181614 | G | Cerberus Institutional Partners VI, L.P.; Vita Holding S.a.r.l; Cerberus Institutional Partners VI, L.P.
20181617 | G | AT&T Inc.; AppNexus Inc.; AT&T Inc.
20181620 | G | Brynwood Partners VIII L.P.; The J.M. Smucker Company; Brynwood Partners VIII L.P.
20181621 | G | ORIX Corporation; NXT Voting SPV, LLC; ORIX Corporation.
20181622 | G | TSG7 A L.P.; KB Wines Holdings, LLC; TSG7 A L.P.
20181624 | G | Gores Holding II, Inc.; Platinum Equity Capital Partners IV, L.P.; Gores Holding II, Inc.
20181625 | G | Cooper-Standard Holdings Inc.; Lauren International Ltd.; Cooper-Standard Holdings Inc.
20181627 | G | Hennessy Capital Acquisition Corp. III; JFL AIV Investors III-JA, L.P.; Hennessy Capital Acquisition Corp. III.
20181629 | G | Cerner Corporation; L. John Doerr; Cerner Corporation.
20181633 | G | Parker Private Investments, LLC; Web.com Group, Inc.; Parker Private Investments, LLC.
20181635 | G | Uzabase, Inc.; David Bradley; Uzabase, Inc.
20181641 | G | Olympus Growth Fund VI, L.P.; Arbor Investments III, L.P.; Olympus Growth Fund VI, L.P.
20181642 | G | Next Level Acquisition Company LLC; Yosef Simsoly and Alisa Simsolo; Next Level Acquisition Company LLC.
20181645 | G | Accel Leaders Fund L.P.; Warburg Pincus Private Equity X, L.P.; Accel Leaders Fund L.P.
20181647 | G | Bain Capital Europe Fund IV, L.P.; AXA LBO Fund V Core FPCI; Bain Capital Europe Fund IV, L.P.
07/23/2018
20181623 | G | Marsh & McLennan Companies, Inc.; John L. Wortham & Son, L.P.; Marsh & McLennan Companies, Inc.
20181648 | G | Alex Dillard; W.D. Company, Inc.; Alex Dillard.
20181649 | G | William Dillard, II; W.D. Company, Inc.; William Dillard, II.
07/24/2018
20181549 | G | Warburg Pincus Private Equity XI, L.P.; F.N.B. Corporation; Warburg Pincus Private Equity XI, L.P.
20181571 | G | Canyon Value Realization Fund, L.P.; MGM Resorts International; Canyon Value Realization Fund, L.P.
20181572 | G | The CVRF Trust; MGM Resorts International; The CVRF Trust.
20181573 | G | The CBEF Master Trust; MGM Resorts International; The CBEF Master Trust.
20181616 | G | Fortive Corporation; Warburg Pincus Private Equity X, L.P.; Fortive Corporation.
07/26/2018
20181370 | G | Cohu, Inc.; Xcerra Corp.; Cohu, Inc.
20181583 | G | PayPal Holdings, Inc.; Primus Capital Fund VII, L.P.; PayPal Holdings, Inc.
20181604 | G | Ribbon Communications Inc.; Edgewater Networks, Inc.; Ribbon Communications Inc.
20181637 | G | Goldman Sachs Renewable Power LLC; South Jersey Industries, Inc.; Goldman Sachs Renewable Power LLC.
20181638 | G | PGGM Cooperatie U.A.; Electricite de France S.A.; PGGM Cooperatie U.A.
07/27/2018
20181632 | G | Accor S.A.; Sam Nazarian; Accor S.A.
20181636 | G | The Williams Companies, Inc.; TPG Growth III DE AIV II, L.P.; The Williams Companies, Inc.
20181654 | G | KKR Americas Fund XII, L.P.; AppLovin Corporation; KKR Americas Fund XII, L.P.
20181656 | G | Partners Group Access 967 L.P.; FPCI Astorg V; Partners Group Access 967 L.P.
20181658 | G | Andritz AG; Xerium Technologies, Inc.; Andritz AG.
20181660 | G | AIS Investment, LLC; Affinion Group Holdings, Inc.; AIS Investment, LLC.
20181663 | G | Intertape Polymer Group Inc.; Piper Ridge Trust; Intertape Polymer Group Inc.
20181666 | G | Green Equity Investors Side VII, L.P.; Letterone Investment Holdings S.A.; Green Equity Investors Side VII, L.P.
20181667 | G | Mann Familienbeteiligungsgesellschaft mbH_Co. KG; Tri-Dim Filter Corporation; Mann Familienbeteiligungsgesellschaft mbH_Co. KG.
07/30/2018
20181595 | G | Green Plains Inc.; Marilyn and James Hebenstreit; Green Plains Inc.
20181662 | G | Shanghai Fosun Pharmaceutical (Group) Co., Ltd.; Butterfly Network, Inc.; Shanghai Fosun Pharmaceutical (Group) Co., Ltd.
20181668 | G | Synnex Corporation; Convergys Corporation; Synnex Corporation.
20181669 | G | RoundTable Healthcare Partners IV, L.P.; Bovie Medical Corporation; RoundTable Healthcare Partners IV, L.P.
20181672 | G | Spectrum Equity VII, L.P.; Lucid Software Inc.; Spectrum Equity VII, L.P.
20181673 | G | The Goldman Sachs Group, Inc.; MDC Partners Inc.; The Goldman Sachs Group, Inc.
20181676 | G | Insight Venture Partners IX, L.P.; ezCater, Inc.; Insight Venture Partners IX, L.P.
20181677 | G | Crestview Partners III, L.P.; Advanced Marketing & Processing, Inc.; Crestview Partners III, L.P.
20181680 | G | AI Global Investments & Cy S.C.A.; General Electric Company; AI Global Investments & Cy S.C.A.
20181681 | G | Omnicom Group; Credera Holdings; Omnicom Group.
07/31/2018
20180590 | G | Grifols, S.A.; The Biotest Divestiture Trust; Grifols, S.A.
20181457 | G | Myriad Genetics, Inc.; Counsyl, Inc.; Myriad Genetics, Inc.
20181646 | G | Alphabet Inc.; Warburg Pincus Private Equity X, L.P.; Alphabet Inc.
20181683 | G | NuVision Federal Credit Union; Denali Federal Credit Union; NuVision Federal Credit Union.

FOR FURTHER INFORMATION CONTACT: Theresa Kingsberry, Program Support Specialist, Federal Trade Commission Premerger Notification Office, Bureau of Competition, Room CC-5301, Washington, DC 20024, (202) 326-3100.

By direction of the Commission.
Donald S. Clark,
Secretary.

[FR Doc. 2018-20275 Filed 9-17-18; 8:45 am]

BILLING CODE 6750-01-P